DEPARTMENT OF HEALTH AND HUMAN SERVICES

Administration for Children and Families

Proposed Information Collection Activity; The Early Head Start Family and Child Experiences Survey (Baby FACES 2020; OMB #0970-0354)

AGENCY: Office of Planning, Research, and Evaluation; Administration for Children and Families; HHS.

ACTION: Request for Public Comment.

SUMMARY: The Administration for Children and Families (ACF) at the U.S. Department of Health and Human Services (HHS) seeks approval to collect descriptive information for the Early Head Start Family and Child Experiences Survey 2020 (Baby FACES 2020).

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: This information collection is to provide nationally representative data on Early Head Start (EHS) programs, centers, classrooms, staff, and families to guide program planning, technical assistance, and research. The proposed data collection builds upon a prior round of the study conducted in 2018 (Baby FACES 2018; OMB 0970-0354) that obtained information on EHS programs at a point in time to better understand how program processes support relationships (e.g., between home visitors and parents, between parents and children, and between teachers and children) which are hypothesized to lead to improved child and family outcomes. Baby FACES 2020 has the same goals as Baby FACES 2018, but while the 2018 study focused on classroom-based relationships, the current study will take a closer look at home visiting processes.

Respondents: Early Head Start program directors, child care center directors, teachers and home visitors, and parents of enrolled children.

Annual Burden Estimates
Instrument | Total number of respondents | Annual number of respondents | Number of responses per respondent | Average burden hours per response | Annual burden hours
Classroom and home visitor sampling form (from EHS staff) | 407 | 204 | 1 | .17 | 35
Child roster form (from EHS staff) | 252 | 126 | 1 | .33 | 42
Parent consent form | 2,495 | 1,248 | 1 | .17 | 212
Parent survey | 2,084 | 1,042 | 1 | .50 | 521
Parent Child Report | 2,008 | 1,004 | 1 | .25 | 251
Staff survey (Teacher survey and Home Visitor survey) | 1,317 | 659 | 1 | .5 | 330
Staff Child Report | 1,046 | 523 | 2.13 | .25 | 279
Program director survey | 120 | 60 | 1 | .5 | 30
Center director survey | 294 | 147 | 1 | .33 | 49
Parent-child interaction | 996 | 498 | 1 | .17 | 85

Estimated Total Annual Burden Hours: 1,834.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec 640(a)(2)(D) and Sec 649 of the Improving Head Start for School Readiness Act Sec 645A and 649 of the Improving Head Start for School Readiness Act of 2007 and the Consolidated Appropriations Act of 2017.

Mary B. Jones,
ACF/OPRE Certifying Officer.

[FR Doc. 2019-08248 Filed 4-23-19; 8:45 am]

BILLING CODE 4184-22-P